DEPARTMENT OF HEALTH AND HUMAN SERVICES

Centers for Disease Control and Prevention

[30Day-07-06BL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Examining the Efficacy of the HIV Testing Social Marketing Campaign for African American Women (HTSMC)—New—National Center for HIV/AIDS, Viral Hepatitis, STD, and TB Prevention (NCHHSTP), Coordinating Center for Infectious Diseases (CCID), Centers for Disease Control and Prevention (CDC).

Background and Brief Description

This project involves evaluation of the HIV Testing Social Marketing Campaign for African American Women (HTSMC), a CDC-sponsored social marketing campaign aimed at increasing HIV testing rates among young, single, African American women. The CDC has designed an efficacy study to evaluate the HTSMC and its messages under controlled conditions. The study entails selecting a sample of single African American females, ages 18 to 34, with less than 4 years of college education and collecting baseline data on their knowledge, attitudes, beliefs, intentions, and behaviors related to HIV testing. The study represents an “efficacy” methodology in that participants will be divided into treatment and control conditions. Participants in the treatment condition, will be exposed to campaign materials including radio advertisements, a billboard, and an informational booklet that will be distributed over the Internet. Thus the study participants' exposure will occur under controlled conditions, without the distractions and variability of potential exposure in the real world. As part of the advertisement stimuli package, the billboard advertisement will appear as part of the online log-in for each stimuli session in order to simulate the appearance of a sign. Therefore, we do not estimate any additional burden for exposure to the billboard advertisement.

Key outcomes related to the HTSMC will be measured in two follow-up surveys. The first follow-up survey will occur 2 weeks after the baseline survey. The second follow-up survey will occur 6 weeks after the baseline survey. Comparisons of changes in these outcomes would then be made between participants in the treatment and control conditions. Findings from this study will be used by CDC and its partners to inform current and future program activities.

We expect a total of 1630 participants to complete the baseline survey. The 1630 participants who complete the baseline survey will be randomly assigned to the treatment or control condition. Eight hundred fifteen participants (the treatment condition) will be exposed to the radio ad and booklet. Of the 1630 participants who completed the baseline survey, we expect 1140 to complete the first follow-up survey. Of the 1140 who complete the first follow-up survey, we expect 800 to complete the second follow-up survey, which will have fewer questions than the first follow-up survey because it will only pertain to questions about behavior change and selected behavioral intentions.

There are no costs to the respondents other than their time. The total estimated annual burden hours are 1,127.

Estimated Annualized Burden Hours
Respondents | Number of respondents | Responses per respondent | Average burden per response (in hours)
Study Screener | 1630 | 1 | 2/60.
Baseline survey | 1630 | 1 | 13/60.
Radio ad stimuli viewing | 815 | 1 | 12/60.
Booklet reading | 815 | 1 | 15/60.
Follow-Up survey 1 | 1140 | 1 | 15/60.
Follow-Up survey 2 | 800 | 1 | 5/60.

Dated: April 29, 2007.
Joan F. Karr,
Acting Reports Clearance Officer, Centers for Disease Control and Prevention.

[FR Doc. E7-8641 Filed 5-3-07; 8:45 am]

BILLING CODE 4163-18-P